DEPARTMENT OF TRANSPORTATION

Federal Highway Administration

23 CFR Parts 627, 635, 636, 637 and 710

[FHWA Docket No. FHWA-2000-7799]

RIN 2125-AE79

Design-Build Contracting

AGENCY: Federal Highway Administration (FHWA), DOT.

ACTION: Correction to notice of proposed rulemaking.

SUMMARY: This document corrects a typographical error in the FHWA's notice of proposed rulemaking (NPRM), published on October 19, 2001, at 66 FR 53288. The NPRM proposes the implementation of regulations for design-build contracting as mandated by section 1307(c) of the Transportation Equity Act for the 21st Century (TEA-21). The docket number that appeared in the heading of the NPRM was incorrect. This notice provides the correct docket number regarding the design-build contracting NPRM as FHWA-2000-7799.

DATES: Written comments to the NPRM must be received on or before December 18, 2001. Late comments will be considered to the extent practicable.

FOR FURTHER INFORMATION CONTACT: Mr. Gerald Yakowenko, Office of Program Administration (HIPA), (202) 366-1352, or Mr. Harold Aikens, Office of the Chief Counsel (202) 366-1373, Federal Highway Administration, 400 Seventh Street, SW., Washington, DC 20590. Office hours are from 7:45 a.m. to 4:15 p.m., e.t., Monday through Friday, except Federal holidays.

SUPPLEMENTARY INFORMATION:

Electronic Access

An electronic copy of this document may be downloaded using a modem and suitable communications software from the Federal Register Electronic Bulletin Board Service at (202) 512-1661. Internet users may reach the Federal Register's homepage at: http://www.nara.gov/fedreg and the Government Printing Office's database at: http://www.access.gpo.gov/nara.

Background

On October 19, 2001, at 66 FR 53288, the FHWA issued a NPRM regarding the implementation of regulations for design-build contracting as mandated by section 1307(c) of the TEA-21. The heading of this NPRM inadvertently referenced an incorrect docket number, FHWA-2000-7790 (this docket number references a final rule published by the Coast Guard). The purpose of this notice is to correct the docket number for the design-build contracting NPRM. The correct docket number for the design-build contracting NPRM is FHWA-2000-7799. All written comments submitted to the docket in response to the October 19, 2001, NPRM should reference the correct docket number, FHWA-2000-7799.

Authority: 23 U.S.C. 315; sec. 1307(c) of Pub. L. 105-178, 112 Stat. 107 (1998); 49 CFR 1.48.

Issued on: October 26, 2001.
Mary E. Peters,
Federal Highway Administrator.

[FR Doc. 01-27401 Filed 10-26-01; 3:47 pm]

BILLING CODE 4910-22-P